DEPARTMENT OF THE INTERIOR

Fish and Wildlife Service

50 CFR Part 21

[Docket No. FWS-HQ-MB-2021-0105; FXMB12320900000-256-FF09M30000]

RIN 1018-BF71

Migratory Bird Permits; Authorizing the Incidental Take of Migratory Birds; Withdrawal

AGENCY: Fish and Wildlife Service, Interior.

ACTION: Notification of withdrawal of advance notice of proposed rulemaking.

SUMMARY: On October 4, 2021, the U.S. Fish and Wildlife Service (Service) published an advance notice of proposed rulemaking in the Federal Register. The Service is withdrawing this advance notice of proposed rulemaking, consistent with an order by the Secretary of the Interior.

DATES: The advance notice of proposed rulemaking that published on October 4, 2021, at 86 FR 54667, is withdrawn as of April 21, 2025.

FOR FURTHER INFORMATION CONTACT: Jerome Ford, Assistant Director-Migratory Birds Program, U.S. Fish and Wildlife Service, telephone: 703-358-2606, email: MB_mail@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On October 4, 2021, the U.S. Fish and Wildlife Service (Service) published an advance notice of proposed rulemaking in the Federal Register (86 FR 54667) informing the public of our intent to develop proposed regulations to authorize the incidental take of migratory birds under the Migratory Bird Treaty Act of 1918, as amended (16 U.S.C. 703 et seq.). The October 4, 2021, document provided an opportunity for public comment until December 3, 2021. The Service is withdrawing the advance notice of proposed rulemaking, consistent with Secretary of the Interior's Order No. 3418, titled “Unleashing American Energy”.

Maureen Foster,
Chief of Staff, Exercising the Delegated Authority of the Assistant Secretary for Fish and Wildlife and Parks.

[FR Doc. 2025-06782 Filed 4-18-25; 8:45 am]

BILLING CODE 4333-15-P